DEPARTMENT OF DEFENSE

Office of the Secretary

Meeting of the Department of Defense Task Force on the Care, Management, and Transition of Recovering Wounded, Ill, and Injured Members of the Armed Forces (Subsequently Referred to as the Task Force)

AGENCY: Department of Defense.

ACTION: Notice.

SUMMARY: Pursuant to Section 10 (a), Public Law 92-463, as amended, notice is hereby given of a forthcoming meeting of the Department of Defense Task Force on the Care, Management, and Transition of Recovering Wounded, Ill, and Injured Members of the Armed Forces (subsequently referred to as the Task Force). The purpose of the meeting is for the Task Force Members to convene and discuss the current year of effort. The meeting is open to the public, subject to the availability of space.

Interested persons may submit a written statement for consideration by the Task Force. Individuals submitting a written statement must submit their statement through any of the means listed below in the Contact Information Section, NLT 5 p.m., Tuesday, December 28, 2010. Written statements must be sent either by fax, e-mail, or through a mail carrier; no hand delivered materials will be accepted. Materials sent through a mail carrier must be marked “Wounded Warrior Task Force—Time Sensitive January Meeting” on the exterior packaging. If a written statement is not received by Tuesday, December 28, 2010, prior to the meeting, which is the subject of this notice, it may not be provided to or considered by the Task Force until its next open meeting. The Designated Federal Officer will review all timely submissions for the January meeting with the Task Force Co-Chair and ensure all submissions are provided to the Members of the Task Force.

If individuals are interested in making an oral statement during the Public Forum time period, a written statement for a presentation of two minutes must be submitted as above and must identify it is being submitted for an oral presentation by the person making the submission. Identification information must be provided and at a minimum must include a name and a phone number. After reviewing the 2 minute written comments for oral presentation, the Co-Chair and the Designated Federal Officer will determine whom of the persons requesting an oral presentation will be able to make an oral presentation during the Public Forum portion of this meeting or at a future meeting. Determination of who will be making an oral presentation will depend on the submitted topics relevance to the Task Force's Charter. Individuals may visit the Task Force Web site at http://dtf.defense.gov/wwtf/ to view the Charter. Individuals making presentations will be notified by Tuesday, 4 January 2011. If you are not notified, you will not be making a presentation, however your materials will be provided to the Task Force members. Oral presentations will be permitted only on Friday January 7, 2011 from 9 a.m. to 9:15 a.m. before the full Task Force. Number of oral presentations will not exceed five, with one minute of questions available to the Task Force members per presenter. Presenters should not exceed their two minutes and will be asked to stop at their two-minute marks so Task Force members can ask questions.

Dates and Times: January 6, 2011, 2 p.m.-6 p.m., January 7, 2011 8:30 a.m-3 p.m.

Location: JW Marriott Washington, DC, 1331 Pennsylvania Ave, NW., Washington, DC 20004.

Contact Information: Mail Delivery service through Wounded Warrior Task Force, Hoffman Building II, 200 Stoval St, Alexandria, VA 22332-4013 “Mark as Time Sensitive for January Meeting.” E-mails to taskforce.woundedwarrior@wso.whs.mil. Telephone (703) 325-6640. Fax (703) 325-6710.

SUPPLEMENTARY INFORMATION: The Wounded Warrior Task Force (WWTF) will provide the Department of Defense (DoD) with advice and recommendations on policies and programs relating to the care, management and transition of recovering service members and their families. This review will include assessing the establishment, effectiveness, and availability of support programs provided by the Military Services and the DoD. In addition, the Task Force will consider interagency matters that affect the transition from military service to civilian life.

Meeting Agenda

6 January 2011

8:30 a.m.-2 p.m. Not Open to the Public. Administrative Session

Open to Public

2 p.m. Welcome by Agency Officials

2:30 p.m. Welcome Opening Remarks Co-Chair

3 p.m. Break

3:15 p.m. Nominations/Discussion/Vote for Non DoD Co-Chair

3:45-6 p.m. Review of the Task Force Mandate

8:30 a.m.-3 p.m. Friday 7 January

Open to Public

8:30 a.m. Welcome and Opening Remarks

9 a.m. Public Forum

9:15 a.m. Review of the Mandate

9:30 a.m. 2010-2011 Study Plan

10:30 a.m. Break

10:45 a.m. Review of Installation Visits

11:30 a.m. Members Calendars/Meeting Schedule

12 p.m. Lunch

1 p.m. Briefing by the Defense Centers of Excellence

3 p.m. Closing

Note: This agenda is subject to change.

Special Accommodations: Reasonable accommodations will be made for those individuals with disabilities who request them. Requests for additional services should be directed to Joseph Jordon, (703) 325-6640, by Thursday, December 23, 2010.

Dated: November 30, 2010.
Morgan F. Park,
Alternate OSD Federal Register Liaison Officer, Department of Defense.

[FR Doc. 2010-30722 Filed 12-7-10; 8:45 am]

BILLING CODE 5001-06-P